DEPARTMENT OF THE INTERIOR

National Park Service

[NPS-WASO-NAGPRA-NPS0039101; PPWOCRADN0-PCU00RP14.R50000]

Notice of Inventory Completion: Sam Noble Museum of Natural History, Norman, OK

AGENCY: National Park Service, Interior.

ACTION: Notice.

SUMMARY: In accordance with the Native American Graves Protection and Repatriation Act (NAGPRA), the Sam Noble Oklahoma Museum of Natural History (SNOMNH) has completed an inventory of human remains and associated funerary objects and has determined that there is a cultural affiliation between the human remains and associated funerary objects and Indian Tribes or Native Hawaiian organizations in this notice.

DATES: Repatriation of the human remains and associated funerary objects in this notice may occur on or after December 26, 2024.

ADDRESSES: Dr. Marc Levine, Associate Curator of Archaeology, Sam Noble Oklahoma Museum of Natural History, University of Oklahoma, 2401 Chautauqua Avenue, Norman, OK 73072-7029, telephone (405) 325-1994, email mlevine@ou.edu.

SUPPLEMENTARY INFORMATION: This notice is published as part of the National Park Service's administrative responsibilities under NAGPRA. The determinations in this notice are the sole responsibility of the SNOMNH, and additional information on the determinations in this notice, including the results of consultation, can be found in the inventory or related records. The National Park Service is not responsible for the determinations in this notice.

Abstract of Information Available

Human remains representing, at least, 14 individuals were removed from the Henry Peck site (34Lf23) in LeFlore County, OK. This site was excavated in 1940 by the Works Progress Administration (WPA) and transferred to the Museum in 1947. The human remains include five females, one male, three probable females, two probable males, one adult for whom sex could not be determined, and two individuals for whom age and sex could not be determined. No known individuals were identified. The 44 associated funerary objects are seven stone projectile points, one stone celt, three paintstones, three potsherds, 18 shell beads, two bone hairpins, one bone awl, one deer antler billet, one deer bone, one bear tooth, one polished bone, and five bags of animal bone fragments. The human remains and associated funerary objects from site 34Lf23 were interred during the Woodland Period (300 B.C.-A.D. 900).

In 1939-1940 and in 1947, human remains representing, at minimum, 252 individuals were removed from the J.W. Williams 1 site (34Lf24) in LeFlore County, OK. This site was excavated by the WPA, and the associated finds were transferred to the Museum in 1947. The human remains include 35 adult females, 12 adult males, 24 adolescents, 37 children, 12 infants, 36 probable adult females, 21 probable adult males, 32 adults for whom sex could not be determined, and 43 individuals for whom age and sex could not be determined. The 340 associated funerary objects are 38 potsherds, 41 projectile points, one projectile point embedded in hard-soil matrix, 67 projectile point fragments, three stone bifaces, six stone biface fragments, one stone core, one stone hoe fragment, three boatstones, four boatstone fragments, four stone manos, two stone celts, three stone gorget fragments, one nutting-stone, one stone axe, 11 bags of paintstones, three worked stones, three unmodified stones, four bone awls, eight bone awl fragments, one bone knife, eight bags of turtle shell fragments, two bags of deer antler fragments, one bag of deer mandible fragments, two animal teeth, 97 bags of animal bone fragments, six bags of shell beads, one shell pendant, one perforated conch shell, two bags of shells, one shell and one projectile point embedded in hard-soil matrix, one bag of wood fragments, eight bags of ash samples, two bags of daub, and one bag of burned clay. The human remains and associated funerary objects from site 34Lf24 were interred during the Woodland Period (300 B.C.-A.D. 900).

Human remains representing, at least, 21 individuals were removed from the J.W. Williams 2 site (34Lf25) in LeFlore County, OK. The site was excavated by the WPA in 1939-1940 and transferred to the Museum in 1940. The human remains include two adult females, one adult male, two children, three infants, eight probable adult females, two probable adult males, and three adults for whom sex could not be determined. No known individuals were identified. The 37 associated funerary objects are four stone projectile points, one bone flute, one bone bracelet, nine bone beads, one modified animal bone, three deer antlers, one tooth, 10 animal bones, one bag of unidentified animal bones, one shell fragment, four copper beads, and one wood fragment. The human remains and associated funerary objects from site 34Lf25 were interred during the Woodland Period (300 B.C.-A.D. 900).

Human remains representing, at least, 101 individuals were removed from the James B. Sam site (34Lf28) in LeFlore County, OK. The site was excavated by the WPA in 1940 and transferred to the Museum in 1947. The human remains include 27 adult females, three adult males, seven adolescents, seven children, 26 probable adult females, nine probable adult males, 15 adults for whom sex could not be determined, and seven individuals for whom age and sex could not be determined. No known individuals were identified. The 86 associated funerary objects are seven ceramic vessels, three potsherds, 26 projectile points, one projectile point fragment, one stone drill, one stone bead, three stone celts, one stone mano, one hammerstone, one stone biface, two paintstones, one perforated stone, one bag of bone beads, one bone awl, two bags of deer jaw fragments, three bags of deer bone fragments, one bag of bear teeth, one dog mandible, one bag of worked animal bone, 23 bags of animal bone fragments, three bags of shell beads, one metal bead, and one bag of ash. The human remains and associated funerary objects from site 34Lf28 were interred during the Woodland Period (300 B.C.-A.D. 900).

Cultural Affiliation

Based on the information available and the results of consultation, cultural affiliation is clearly identified by the information available about the human remains and associated funerary objects described in this notice.

Determinations

The SNOMNH has determined that:

• The human remains described in this notice represent the physical remains of 388 individuals of Native American ancestry.

• The 507 objects described in this notice are reasonably believed to have been placed intentionally with or near individual human remains at the time of death or later as part of the death rite or ceremony.

• There is a connection between the human remains and associated funerary objects described in this notice and the Caddo Nation of Oklahoma and the Wichita and Affiliated Tribes (Wichita, Keechi, Waco, & Tawakonie), Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after December 26, 2024. If competing requests for repatriation are received, the SNOMNH must determine the most appropriate requestor prior to repatriation. Requests for joint repatriation of the human remains and associated funerary objects are considered a single request and not competing requests. The SNOMNH is responsible for sending a copy of this notice to the Indian Tribes and Native Hawaiian organizations identified in this notice.

Authority: Native American Graves Protection and Repatriation Act, 25 U.S.C. 3003, and the implementing regulations, 43 CFR 10.10.

Dated: November 18, 2024.
Melanie O'Brien,
Manager, National NAGPRA Program.

[FR Doc. 2024-27506 Filed 11-22-24; 8:45 am]

BILLING CODE 4312-52-P